DEPARTMENT OF COMMERCE

International Trade Administration

Mission Statement; Afghanistan International Carpet Fair; August 26-28, 2007

AGENCY: International Trade Administration, Department of Commerce.

ACTION: Notice.

Mission Description

U.S. Secretary of Commerce Gutierrez's priorities for Afghanistan include helping the country develop three sectors in which it has a comparative advantage: rugs, dried fruits and nuts, and mining. The International Trade Administration of the Department of Commerce is organizing a U.S. carpet trade mission to Kabul, Afghanistan for the Afghanistan International Carpet Fair on August 26-28, 2007. The mission will assist U.S. rug businesses exploring trade and investment opportunities in Afghanistan's rug sector. Assistant Secretary David Bohigian will lead a delegation of U.S.-based executives of U.S. firms interested in pursuing business in Afghanistan's rug sector. The mission will include participation in the Carpet Fair, matchmaking, and a potential site visit to a rug production facility. The mission will reaffirm the U.S. Government's support towards bilateral relations and seek to expand opportunities for U.S. companies in Afghanistan.

Commercial Setting

Afghanistan has a comparative advantage in producing hand woven rugs, putting this sector on the cutting edge of the Afghanistan's reintegration into the global economy. Afghanistan's rugs have a rich legacy of artistry and craftsmanship, which has been handed down through many generations. Each type of rug is unique to the location in which it was produced and inspired. Afghanistan produces various types of rugs woven out of wool, silk, and cotton.

Due to the current lack of finishing facilities, Afghanistan sends more than eighty percent of its rugs to Pakistan, where they are finished and labeled “made in Pakistan”. This Trade Mission will enable delegates to explore opportunities for investing in rug producing facilities and exporting textile equipment to Afghanistan. As such, the Mission could play a valuable role in preserving the brand identity of Afghan rugs, by helping producers to finish and export their own rugs.

The Afghan Government is helping Afghan rug producers connect their craftsmanship to the world. In conjunction with the U.S. Department of Commerce, the Government of Afghanistan organized two previous delegations of Afghan rug producers to visit the United States. In July 2006, a delegation visited major retailers and rug importers in New York, Atlanta, and Washington, DC. In February 2007, a second delegation attended the AmericasMart International Area Rug Market in Atlanta, where Afghanistan's rugs were part of a major cultural showcase.

This first-ever Afghanistan International Carpet Fair will provide an opportunity for Afghan rug producers and U.S. buyers to network, create business relationships, and allow U.S. buyers to explore investment opportunities in the rug sector. The Trade Mission presents a unique opportunity for seasoned U.S. rug professionals to partner with Afghan rug producers as Afghanistan strives to re-establish its leadership position in the global rug business.

Mission Goals: The mission aims to further U.S. commercial policy objectives and to advance specific U.S. business interests in the U.S. and Afghan rug sectors. The mission will:

• Create an opportunity for members of the U.S. rug sector to meet and network with Afghan rug producers;

• Allow U.S. rug business delegates to visit Afghan rug producing facilities and explore potential investment opportunities;

• Assess the commercial climate of Afghanistan's rug sector as well as export and investment opportunities in Afghanistan;

• Encourage continued progress in economic development in Afghanistan.

Mission Scenario: This mission will enable participants to gain access to the Afghan rug market on a large scale. The mission will include VIP participation in the rug show and a potential visit to at least one rug producing facility. Participants will be part of the carpet fair's opening night-VIP reception with high-level Afghan government officials, including President Karzai (to be confirmed). The event will provide opportunities to network with over 70 Afghan rug vendors at the show. The show will feature a broad range of rugs from Afghanistan's diverse rug producing provinces. Networking will also include one-on-one meetings between the U.S. rug business delegates and Afghan rug producers.

Mission Timetable: The precise schedule will depend on the availability of local government and business officials and the specific goals of the mission participants. The tentative trip itinerary will be as follows:

Sunday, August 26

Arrive in Kabul

Attend opening reception for the Afghanistan International Carpet Fair, Serena Hotel

Meet with high-level U.S. and Afghan Government officials

Monday, August 27

Attend Afghanistan International Carpet Fair

Networking between buyers and sellers

One-on-one meetings between buyers and sellers

Potential site visit to rug producing facilities

Tuesday, August 28

Attend Afghanistan International Carpet Fair

Networking between buyers and sellers

One-on-one meetings between buyers and sellers

Potential site visit to rug producing facilities

Wednesday, August 29

Depart Kabul

Criteria for Participation and Selection: We are looking to recruit five to ten delegates from the U.S. rug industry to participate in this mission. Recruitment and selection will be conducted according to the “Statement of Policy Governing Department of Commerce-Overseas Trade Missions” established in March 1997.

Eligibility: Participating companies must be incorporated or otherwise organized in the United States.

Selection Criteria: Companies will be selected for participation in the mission on the basis of:

• Consistency of company's goals with the scope and desired outcome of the mission;

• Relevance of a company's business and product line to the identified growth sectors;

• Rank of the designated company representative;

• Past, present, or prospective relevant international business activity;

• Diversity of company size, type, location, demographics, and traditional under-representation in business; and

• Timely receipt of the company's signed and completed application, participation agreement, and participation fee.

Additionally, U.S. exporters applying for this mission, such as rug finishing machinery manufacturers or distributors, must certify that the company's products or services are either produced in the United States, or, if not, are marketed under the name of a U.S. firm and have at least fifty-one percent U.S. content. The production and content requirements do not apply to U.S. buyer and U.S. investor applicants.

Recruitment will be conducted in an open and public manner, including publication in the Federal Register, posting on the Commerce Department trade missions calendar (http://www.ita.doc.gov/doctm/tmcal.html), the Afghanistan Investment and Reconstruction Task Force Web site (http://www.export.gov/afghanistan), and press releases to the general and trade media. Promotion of the mission will also take place through the involvement of U.S. Export Assistance Centers and relevant trade associations.

An applicant's partisan, political activities (including political contribution) are entirely irrelevant to the selection process. The fee to participate in this mission is approximately USD 1,500. The fee will not cover travel expenses, meals or lodging. Recruitment begins immediately and will close on August 8, 2007. Applications received after that date will be considered only if space and scheduling constraints permit. The mission Web site (http://www.export.gov/afghanistan/events) will share information as it becomes available.

Disclaimer

Trade mission members participate in the trade mission and undertake related travel at their own risk and are advised to obtain insurance accordingly. Any question regarding insurance coverage must be resolved by the participant and its insurer of choice. The U.S. Government does not make any representations or guarantees as to the safety or security of participants. Companies should consult the State Department's travel warning for Afghanistan: http://travel.state.gov/travel/cis_pa_tw/tw/tw_2121.html. The Department of Commerce will coordinate with the U.S. Embassy in Kabul to arrange for all transportation of the trade mission participants to and from the hotel and on visits to rug producing facilities. The Serena Hotel is responsible for providing security for the event venue. The Serena Hotel is a luxury hotel and does have security measures in place.

The U.S. Government does not make any representations or guarantees as to the success of the trade mission.

Noor Alam,
Afghanistan Investment and Reconstruction Task Force, U.S. Department of Commerce, Washington, DC 20230, Tel: (202) 482-1812, Fax: (202) 482-0980, E-mail: AfghanInfo@ita.doc.gov.

[FR Doc. E7-15202 Filed 8-3-07; 8:45 am]

BILLING CODE 3510-DS-P